ENVIRONMENTAL PROTECTION AGENCY

[OPP-30464A; FRL-6553-8]

Chlorfenapyr; Withdrawal of an Application To Register a Pesticide Product Containing a New Active Ingredient

AGENCY: Environmental Protection Agency (EPA).

ACTION: Notice.

SUMMARY: American Cyanamid Company has withdrawn its application to register chlorfenapyr (4-bromo-2-(4-chlorophenyl)-1-(ethoxymethyl)-5-(trifluoromethyl)-1H-pyrrole-3-carbonitrile) pesticide products for use on cotton (EPA File Symbols 241-GAT and 241-GAI).

FOR FURTHER INFORMATION CONTACT: Ann Sibold, Registration Division (7505C), Office of Pesticide Programs, Environmental Protection Agency, Ariel Rios Bldg., 1200 Pennsylvania Ave., NW., Washington, DC 20460; telephone number: 703-305-6502; fax number: 703-305-6596; e-mail address: sibold.ann@epa.gov.

SUPPLEMENTARY INFORMATION:

A. Does This Action Apply to Me?

You may be affected by this action if you are an agricultural producer, food manufacturer, or pesticide manufacturer. Potentially affected categories and entities may include, but are not limited to:

Categories | NAICS codes | Examples of potentially affected entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number OPP-34162. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is 703-305-5805.

C. What Action Is the Agency Taking?

EPA is announcing that American Cyanamid Company, P.O. Box 400, Princeton, NJ 08543-0400 has withdrawn its application to register a pesticide containing chlorfenapyr for use on cotton as provided for in section 3(c)(7)(C) of the Federal Insecticide, Fungicide, and Rodenticide Act (FIFRA), as amended by the Food Quality Protection Act of 1996 (FQPA). Chlorfenapyr is an active ingredient not included in any previously registered pesticide product. Chlorfenapyr has been proposed for many uses on several pests. This withdrawal notice is applicable to the products PIRATE and ALERT for use on cotton.

EPA issued a notice in the Federal Register of December 2, 1998 (63 FR 66534) (FRL-6046-6), which announced American Cyanamid's submission of an application to register a pesticide product (EPA File Symbols 241-GAT and 241-GAI) containing an active ingredient, 4-bromo-2-(4-chlorophenyl)-1-(ethoxymethyl)-5-(trifluoromethyl)-1-pyrrole-3-carbonitrile (chlorfenapyr), not included in any previously registered pesticide product. The application was for an insecticide/miticide for use on cotton.

On January 20, 1999 (64 FR 3091) (FRL-6489-2), EPA published in the Federal Register a Notice of Availability of Risk/Benefit Assessments. These assessments were made available for public comment in the docket and at http://www.epa.gov/opprd001/chlorfenapyr/toc.htm. The Agency received approximately 400 public comments in the docket in response to the notice.

In addition, the Office of Pesticide Programs submitted EPA's and American Cyanamid's risk assessments to peer review by the Federal Insecticide, Fungicide, and Rodenticide Act (“FIFRA”) Scientific Advisory Panel (“SAP”). The SAP met twice to review the assessments. The SAP reports are available at:

http://www.epa.gov/oscpmont/sap/1999/july/finlrpt3.pdf

http://www.epa.gov/oscpmont/sap/1999/september/finalrpt.pdf.

The Agency also had extensive discussions with the United States Fish and Wildlife Service (FWS). The comments received by the FWS were taken into consideration in EPA's registration assessment.

On March 13, 2000, Susan H. Wayland, Acting Assistant Administrator for the Office of Prevention, Pesticides and Toxic Substances, signed a decision memorandum for the denial of chlorfenapyr use on cotton. Copies of the decision memorandum are available in the docket. American Cyanamid has since decided to withdraw its application for registration.

List of Subjects

Environmental protection, Pesticides and pests.

Dated: May 2, 2000.
James Jones,
Director, Registration Division, Office of Pesticide Programs.

FR Doc. 00-11677 Filed 5-9-00; 8:45 am

BILLING CODE 6560-50-F